DEPARTMENT OF THE INTERIOR

Bureau of Land Management

[AZ-930-5420-EU-A504; AZA-32815]

Notice of Application for Recordable Disclaimer of Interest in La Paz County; AZ

AGENCY: Bureau of Land Management, Interior.

ACTION: Notice.

SUMMARY: An application has been filed by East Bay Group, Inc. (East Bay Group) for a Recordable Disclaimer of Interest from the United States on 8.14 acres of land located in La Paz County, Arizona. A Recordable Disclaimer of Interest, if issued, estops the United States from asserting a claim to an interest in or the ownership of lands that are being disclaimed (43 CFR 1864.0-2(b)). This notice is intended to notify the public of the pending application.

DATES: On or before October 22, 2007, all interested parties may submit comments on East Bay Group's application as follows. Comments on this application should reference case file serial number AZA-32815. Public comments will be accepted if received by the Bureau of Land Management (BLM) or postmarked no later than October 22, 2007. The Bureau of Land Management (BLM) will review all comments timely received, and will address all relevant, substantive issues raised in the comments. A final decision on the merits of the application will not be made until at least November 20, 2007.

ADDRESSES: Comments should be sent to Julie A. Decker, Group Administrator, Lands, Recreation, and Planning, BLM, Arizona State Office, One North Central Avenue, Suite 800, Phoenix, Arizona 85004-4427.

FOR FURTHER INFORMATION CONTACT: Vivian Titus, Land Law Examiner, Lands and Minerals Adjudication, BLM at the address above or at (602) 417-9598.

SUPPLEMENTARY INFORMATION: On June 9, 2004, East Bay Group filed an application for a Disclaimer of Interest pursuant to Section 315 of the Federal Land Policy and Management Act of 1976, as amended (43 U.S.C. 1745), and the regulations contained in 43 CFR Subpart 1864. Based on the BLM Arizona State Office's review of the official survey records on file, the Federal Government has no interest in lands that have lawfully accreted to the northerly side of lots 3 and 5, in sec. 33 of T. 11 N., R. 18 W., Gila and Salt River Meridian, La Paz County, Arizona. In addition, the Bureau of Reclamation, the Bureau of Indian Affairs, and the Corps of Engineers have also reviewed and concurred that they have no Federal interest in the accreted lands.

All persons who wish to present comments, suggestions, or objections in connection with the pending application and proposed disclaimer may do so by writing to Julie A. Decker, Group Administrator, Lands, Recreation, and Planning, at the above mentioned address. Comments, including names and street addresses of commentors, will be available for public review at the Arizona State Office (see address above), during regular business hours (8:30 a.m. to 4:30 p.m. local time), Monday through Friday, except holidays. Before including your address, phone number, e-mail address, or other personal identifying information in your comment, you should be aware that your entire comment, including your personal identifying information, may be publicly available at any time. While you may ask us in your comment to withhold your personal identifying information from public review, we cannot guarantee that we will be able to do so. Anonymous comments will not be accepted. If no valid objection is received, this action will be approved and will clear a cloud on the title of East Bay Group's 8.14 acres of land.

Authority: 43 CFR 1864.2(a)).

Michael A. Taylor,
Acting Arizona State Director.

[FR Doc. E7-16488 Filed 8-21-07; 8:45 am]

BILLING CODE 4310-32-P